Title 3—

The President

Proclamation 10967 of August 28, 2025

Overdose Prevention Week, 2025

By the President of the United States of America

A Proclamation

The safety, health, and well-being of our people is essential to building a resilient Nation. Tragically, one of the gravest threats to American lives is the drug overdose crisis, which has caused heartbreak and suffering on untold numbers of families. This Overdose Prevention Week, we remember those who lost their lives to overdose, we stand beside the families left to grieve, and we renew our solemn commitment to ending this epidemic once and for all.

Under the previous administration, our country endured a catastrophe of unimaginable proportions on our southern border. Deadly drugs like fentanyl and other opioids flooded into our cities and towns, falling into the hands of our children, siblings, parents, friends, and neighbors, and leaving devastation in their wake. Over the past year, more than 80,000 of our fellow citizens have died from drug overdoses. Children have vanished from classrooms, parents from dinner tables, and entire neighborhoods have been shaken by unconscionable grief and sorrow.

To combat this vicious assault on the American people, in July, I proudly signed into law the HALT Fentanyl Act, which classifies fentanyl-related compounds as Schedule I drugs. I also designated cartels as foreign terrorist organizations—and with the passage of the historic One Big Beautiful Bill, we are expanding the southern border wall and deporting violent drug traffickers who prey on our Nation's most vulnerable. I will continue to do everything in my power to protect children and families, end the scourge of drug addiction, and keep lethal substances out of our communities and out of the hands of our citizens.

During this week, my Administration calls on every American to protect themselves and their families from the perils of drug overdose. Preserving our American inheritance depends on freedom from danger, freedom from harm, and freedom to lead long, safe, and vigorous lives. My Administration will never stop fighting to achieve a future that protects its citizens, defends its communities, and ensures that the American people are happy, healthy, and free.

NOW, THEREFORE, I, DONALD J. TRUMP, President of the United States of America, by virtue of the authority vested in me by the Constitution and the laws of the United States, do hereby proclaim August 31 through September 6, 2025, as Overdose Prevention Week. I call upon my fellow Americans to observe this week with appropriate programs, ceremonies, religious services, and other activities that raise awareness about the prescription opioid and drug overdose epidemic and to consider concrete follow-up activities.

IN WITNESS WHEREOF, I have hereunto set my hand this twenty-eighth day of August, in the year of our Lord two thousand twenty-five, and of the Independence of the United States of America the two hundred and fiftieth.

[FR Doc. 2025-16922

Filed 9-2-25; 11:15 am]

Billing code 3395-F4-P